DEPARTMENT OF JUSTICE

Notice of Lodging of Two Consent Decrees Under the Comprehensive Environmental Response, Compensation and Liability Act of 1980

Consistent with 28 CFR 50.7 and 42 U.S.C. 9622(d), notice is hereby given that on June 13, 2006, two proposed consent decrees in United States v. Olin Corporation, et al., Civil Action No. 3:06CV914 (SRU), were lodged with the United States District Court for the District of Connecticut.

In this action, the United States seeks recovery of costs pursuant to section 107(a) of the Comprehensive Environmental Response, Compensation and Liability Act of 1980, as amended, 42 U.S.C. 9607(a), related to the Rosem Superfund Removal Site and the Bryden & Morse Superfund Removal Site. The first proposed consent decree, between the United States, the South Central Connecticut Regional Water Authority, the Town of Hamden, Connecticut, and the State of Connecticut Board of Education (“Decree”), recovers $140,000. The second proposed consent decree, between the United States and Olin Corporation (“Olin Decree”), recovers $110,000.

The Department of Justice will receive for a period of thirty (30) days from the date of this publication comments relating to the Decree and the Olin Decree. Comments should be addressed to the Assistant Attorney General, Environment and Natural Resources Division, P.O. Box 7611, Ben Franklin Station, U.S. Department of Justice, Washington, DC 20044-7611, and should refer to United States v. Olin Corporation, et al., D.J. Ref. 90-11-3-08075.

The Decree and Olin Decree may be examined at the Office of the United States Attorney, 450 Main Street, Room 328, Hartford, Connecticut 06103, and at the U.S. Environmental Protection Agency—Region 1, JFK Federal Building, Boston, MA 02203-2211. During the public comment period, the Decree and Olin Decree may also be examined on the following Department of Justice Web site, http://www.usdoj.gov/enrd/open.html. A copy of the Decree and Olin Decree may also be obtained by mail from the Consent Decree Library, P.O. Box 7611, Ben Franklin Station, U.S. Department of Justice, Washington, DC 20044-7611 or by faxing or e-mailing a request to Tonia Fleetwood (tonia.fleetwood@usdoj.gov), fax no. (202) 514-0097, phone confirmation number (202) 514-1547. In requesting a copy from the Consent Decree Library, please enclose a check in the amount of $15.75 (25 cents per page reproduction cost) payable to the U.S. Treasury.

Ronald Gluck,
Assistant Chief, Environmental Enforcement Section, Environment and Natural Resources Division.

[FR Doc. 06-5771 Filed 6-27-06; 8:45 am]

BILLING CODE 4410-15-M